DEPARTMENT OF COMMERCE

International Trade Administration

[C-533-880]

Polytetrafluoroethylene Resin From India: Postponement of Preliminary Determination in the Countervailing Duty Investigation

AGENCY: Enforcement and Compliance, International Trade Administration, Department of Commerce.

DATES: Applicable December 7, 2017.

FOR FURTHER INFORMATION CONTACT: Toby Vandall at (202) 482-1664, or Aimee Phelan at (202) 482-0697, AD/CVD Operations, Office I, Enforcement and Compliance, International Trade Administration, U.S. Department of Commerce, 1401 Constitution Avenue NW., Washington, DC 20230.

SUPPLEMENTARY INFORMATION:

Background

On October 18, 2017, the Department of Commerce (the Department) initiated a countervailing duty (CVD) investigation of imports of polytetrafluoroethylene resin (PTFE resin) from India.¹ Currently, the preliminary determination is due no later than December 22, 2017.

¹ See Polytetrafluoroethylene Resin from India: Initiation of Countervailing Duty Investigation, 82 FR 49592 (October 26, 2017) (Initiation Notice).

Postponement of Preliminary Determination

Section 703(b)(1) of the Tariff Act of 1930, as amended (the Act), requires the Department to issue the preliminary determination in a countervailing duty investigation within 65 days after the date on which the Department initiated the investigation. However, section 703(c)(1) of the Act permits the Department to postpone the preliminary determination until no later than 130 days after the date on which the Department initiated the investigation if: (A) The petitioner ² makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

² The petitioner is The Chemours Company FC LLC.

On November 27, 2017, the petitioner submitted a timely request that the Department postpone the preliminary CVD determination.³ The petitioner stated that it requests postponement because of the complexity of the investigation and the schedule.⁴ Further, the petitioner stated that “the deadlines for responding to Sections II and III of the questionnaire fall after the scheduled preliminary determination. Without extending the preliminary determination, Chemours would be unable to comment on the responses or suggest follow-up questions prior to a preliminary determination. The Department would be similarly unable to issue supplemental questionnaires.” ⁵

³ See Letter from the petitioner, “Polytetrafluoroethylene (PTFE) Resin from India: Petitioner's Request for Extension of the Countervailing Duty Investigation Preliminary Determination,” (November 27, 2017).

⁴ Id.

⁵ Id.

In accordance with 19 CFR 351.205(e), the petitioner has stated the reasons for requesting a postponement of the preliminary determination, and the Department finds no compelling reason to deny the request. Therefore, in accordance with section 703(c)(1)(A) of the Act, the Department is postponing the deadline for the preliminary determination to no later than 130 days after the date on which this investigation was initiated, i.e., to February 26, 2018.⁶ Pursuant to section 705(a)(1) of the Act and 19 CFR 351.210(b)(1), the deadline for the final determination of this investigation will continue to be 75 days after the date of the preliminary determination.

⁶ Postponing the preliminary determination to 130 days after initiation would place the deadline on Sunday, February 25, 2018. The Department's practice dictates that where a deadline falls on a weekend or Federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: November 30, 2017.
Gary Taverman,
Deputy Assistant Secretary for Antidumping and Countervailing Duty Operations performing the non-exclusive functions and duties of the Assistant Secretary for Enforcement and Compliance.

[FR Doc. 2017-26382 Filed 12-6-17; 8:45 am]

BILLING CODE 3510-DS-P